DEPARTMENT OF LABOR

Office of the Secretary

Submission for OMBV Review; Comment Request

November 20, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316) on or before January 2, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment Standards Administration (ESA).

Title: Claimant Medical Reimbursement Form.

OMB Number: 1215-0193.

Affected Public: Federal Government and Individuals or households.

Frequency: On occasion.

Number of Respondents: 41,907.

Number of Annual Responses: 41,907.

Estimated Time Per Response: 10 minutes.

Total Burden Hours: 6,957.

Total Annualized Capital/Startup Costs: $0.

Total Annual Costs (operating/maintaining systems or purchasing services): $15,087.

Description: The Claimant Medical Reimbursement Form (CA-915) is used to collect information necessary to document and adjudicate claims for reimbursement of medical costs paid by an injured employee for services covered under the Federal Employees' Compensation Act (FECA). Without this documentation, proper reimbursement cannot be accomplishment.

Type of Review: Extension of a currently approved collection.

Agency: Employment Standards Administration (ESA).

Title: The NCPDP Universal Pharmacy Billing Form.

OMB Number: 1215-0194.

Affected Public: Business or other for-profit; Not-for-profit institutions; Federal Government; State, Local or Tribal Government; and Individuals or households.

Frequency: On occasion.

Number of Respondents: 594,974.

Number of Annual Responses: 594,974.

Estimated Time Per Response: 5 minutes.

Total Burden Hours: 49,382.

Total Annualized Capital/Startup Costs: $0.

Total Annual Costs (operating/maintaining systems or purchasing services: $0.

Description: The National Council for Prescription Drug Programs (NCPDP) Universal Pharmacy Billing Form (Form 79-1A) is the standard form used by pharmacies throughout the country to request reimbursement for prescription drugs covered under the Federal Employees' Compensation Act (FECA) or the Federal Black Lung Benefits Act (FBLBA).

Ira L. Mills,
Departmental Clearance Officer.

[FR Doc. 00-30616 Filed 11-30-00; 8:45 am]

BILLING CODE 4510-47-M